DEPARTMENT OF ENERGY

Federal Energy Regulatory Commission

Combined Notice of Filings

Take notice that the Commission has received the following Natural Gas Pipeline Rate and Refund Report filings:

Filings Instituting Proceedings

Docket Numbers: RP18-369-002.

Applicants: Sea Robin Pipeline Company, LLC.

Description: Compliance filing Quality Compliance to be effective 8/1/2018.

Filed Date: 10/2/18.

Accession Number: 20181002-5033.

Comments Due: 5 p.m. ET 10/15/18.

Docket Numbers: RP19-27-000.

Applicants: Texas Eastern Transmission, LP.

Description: § 4(d) Rate Filing: STEP Project Non-Conforming Interim Agreements to be effective 10/1/2018.

Filed Date: 10/2/18.

Accession Number: 20181002-5000.

Comments Due: 5 p.m. ET 10/15/18.

Docket Numbers: RP19-29-000.

Applicants: Tennessee Gas Pipeline Company, L.L.C.

Description: § 4(d) Rate Filing: Volume No. 2—Neg Rate Agmt—NextEra Energy Marketing, LLC SP338828 to be effective 10/1/2018.

Filed Date: 10/2/18.

Accession Number: 20181002-5042.

Comments Due: 5 p.m. ET 10/15/18.

Docket Numbers: RP19-31-000.

Applicants: Dauphin Island Gathering Partners.

Description: § 4(d) Rate Filing: Negotiated Rate Filing 10-2-2018 to be effective 11/1/2018.

Filed Date: 10/2/18.

Accession Number: 20181002-5088.

Comments Due: 5 p.m. ET 10/15/18.

Docket Numbers: RP19-32-000.

Applicants: Dominion Energy Transmission, Inc.

Description: § 4(d) Rate Filing: DETI—October 2, 2018 Nonconforming Service Agreements to be effective 11/1/2018.

Filed Date: 10/2/18.

Accession Number: 20181002-5110.

Comments Due: 5 p.m. ET 10/15/18.

Docket Numbers: RP19-33-000.

Applicants: Caledonia Energy Partners, L.L.C.

Description: § 4(d) Rate Filing: Updates to Caledonia Energy Partners, LLC FERC Gas Tariff to be effective 11/1/2018.

Filed Date: 10/2/18.

Accession Number: 20181002-5113.

Comments Due: 5 p.m. ET 10/15/18.

Docket Numbers: RP19-34-000.

Applicants: Freebird Gas Storage, L.L.C.

Description: § 4(d) Rate Filing: Updates to Freebird Gas Storage, LLC FERC Gas Tariff to be effective 11/1/2018.

Filed Date: 10/2/18.

Accession Number: 20181002-5114.

Comments Due: 5 p.m. ET 10/15/18.

Docket Numbers: RP19-35-000.

Applicants: Cimarron River Pipeline, LLC.

Description: § 4(d) Rate Filing: Negotiated Rates 2018-10-03 to be effective 10/3/2018.

Filed Date: 10/2/18.

Accession Number: 20181002-5158.

Comments Due: 5 p.m. ET 10/15/18.

Docket Numbers: RP19-36-000.

Applicants: Dominion Energy Questar Pipeline, LLC.

Description: § 4(d) Rate Filing: Statement of Negotiated Rates Version 8.0.0—Highpoint Operating Corp. to be effective 10/2/2018.

Filed Date: 10/2/18.

Accession Number: 20181002-5173.

Comments Due: 5 p.m. ET 10/15/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 3, 2018.
Nathaniel J. Davis, Sr.,
Deputy Secretary.

[FR Doc. 2018-21933 Filed 10-9-18; 8:45 am]

BILLING CODE 6717-01-P